DEPARTMENT OF STATE

[Public Notice: 11816]

Bureau of Political-Military Affairs, Directorate of Defense Trade Controls: Notifications to the Congress of Proposed Commercial Export Licenses

ACTION: Notice.

SUMMARY: The Directorate of Defense Trade Controls and the Department of State give notice that the attached Notifications of Proposed Commercial Export Licenses were submitted to the Congress on the dates indicated.

DATES: The dates of notification to Congress are as shown on each of the 13 letters.

FOR FURTHER INFORMATION CONTACT: Ms. Paula C. Harrison, Directorate of Defense Trade Controls (DDTC), Department of State at (202) 663-3310; or access the DDTC website at https://www.pmddtc.state.gov/ddtc public and select “Contact DDTC,” then scroll down to “Contact the DDTC Response Team” and select “Email.” Please add this subject line to your message, “ATTN: Congressional Notification of Licenses.”

SUPPLEMENTARY INFORMATION: Section 36(f) of the Arms Export Control Act (22 U.S.C. 2776) requires that notifications to the Congress pursuant to sections 36(c) and 36(d) be published in the Federal Register in timely manner. The following comprise recent such notifications and are published to give notice to the public.

April 8, 2022

The Honorable Nancy Pelosi, Speaker of the House of Representatives.

Dear Madam Speaker:

Pursuant to Section 36(c) of the Arms Export Control Act, please find enclosed a certification of a proposed license amendment for the export of defense articles, including technical data and defense services, in the amount of $50,000,000 or more.

The transaction contained in the attached certification involves the export of defense articles, including technical data and defense services, to Saudi Arabia, UK and Australia to support operation, training and maintenance of Scan Eagle 2, Scan Eagle 3, and Integrator Unmanned Aerial Systems.

The U.S. government is prepared to license the export of these items having taken into account political, military, economic, human rights, and arms control considerations.

More detailed information is contained in the formal certification which, though unclassified, contains business information submitted to the Department of State by the applicant, publication of which could cause competitive harm to the U.S. firm concerned.

Sincerely,

David Bonine,

Senior Bureau Official, Bureau of Legislative Affairs.

Enclosure: Transmittal No. DDTC 21-042.

April 13, 2022

The Honorable Nancy Pelosi, Speaker of the House of Representatives.

Dear Madam Speaker:

Pursuant to Section 36(c) of the Arms Export Control Act, please find enclosed a certification of a proposed license for the export of firearms, parts, and components abroad controlled under Category I of the U.S. Munitions List in the amount of $1,000,000 or more.

The transaction contained in the attached certification involves the export to Thailand of M4 5.56mm automatic rifles.

The U.S. government is prepared to license the export of these items having taken into account political, military, economic, human rights, and arms control considerations.

More detailed information is contained in the formal certification which, though unclassified, contains business information submitted to the Department of State by the applicant, publication of which could cause competitive harm to the U.S. firm concerned.

Sincerely,

David Bonine,

Senior Bureau Official, Bureau of Legislative Affairs.

Enclosure: Transmittal No. DDTC 21-080.

April 13, 2022

The Honorable Nancy Pelosi, Speaker of the House of Representatives.

Dear Madam Speaker:

Pursuant to Section 36(c) of the Arms Export Control Act, please find enclosed a certification of a proposed license for the export of firearms, parts, and components abroad controlled under Category I of the U.S. Munitions List in the amount of $1,000,000 or more.

The transaction contained in the attached certification involves the export to the UK of 5.56mm automatic rifles and sound suppressors.

The U.S. government is prepared to license the export of these items having taken into account political, military, economic, human rights, and arms control considerations.

More detailed information is contained in the formal certification which, though unclassified, contains business information submitted to the Department of State by the applicant, publication of which could cause competitive harm to the U.S. firm concerned.

Sincerely,

David Bonine,

Senior Bureau Official, Bureau of Legislative Affairs.

Enclosure: Transmittal No. DDTC 21-082.

April 20, 2022

The Honorable Nancy Pelosi, Speaker of the House of Representatives.

Dear Madam Speaker:

Pursuant to Section 36(c) of the Arms Export Control Act, please find enclosed a certification of a proposed license for the export of defense articles, including technical data and defense services, in the amount of $50,000,000 or more.

The transaction contained in the attached certification involves the export of defense articles, including technical data and defense services, to Norway and the UK to support maintenance, repair, overhaul, and upgrade of the F135 propulsion system.

The U.S. government is prepared to license the export of these items having taken into account political, military, economic, human rights, and arms control considerations.

More detailed information is contained in the formal certification which, though unclassified, contains business information submitted to the Department of State by the applicant, publication of which could cause competitive harm to the U.S. firm concerned.

Sincerely,

David Bonine,

Senior Bureau Official, Bureau of Legislative Affairs.

Enclosure: Transmittal No. DDTC 21-054.

April 20, 2022

The Honorable Nancy Pelosi, Speaker of the House of Representatives.

Dear Madam Speaker:

Pursuant to Section 36(c) of the Arms Export Control Act, please find enclosed a certification of a proposed license for the export of firearms, parts, and components abroad controlled under Category I of the U.S. Munitions List in the amount of $1,000,000 or more.

The transaction contained in the attached certification involves the export to Italy and Kuwait of M16 automatic rifles, M4 5.56mm automatic carbines, and associated spare parts.

The U.S. government is prepared to license the export of these items having taken into account political, military, economic, human rights, and arms control considerations.

More detailed information is contained in the formal certification which, though unclassified, contains business information submitted to the Department of State by the applicant, publication of which could cause competitive harm to the U.S. firm concerned.

Sincerely,

David Bonine,

Senior Bureau Official, Bureau of Legislative Affairs.

Enclosure: Transmittal No. DDTC 21-075.

April 20, 2022

The Honorable Nancy Pelosi, Speaker of the House of Representatives.

Dear Madam Speaker:

Pursuant to Section 36(c) of the Arms Export Control Act, please find enclosed a certification of a proposed license for the export of firearms controlled under Category I of the U.S. Munitions List in the amount of $1,000,000 or more.

The transaction contained in the attached certification involves the export of M16A4 5.56mm automatic rifles to Thailand.

The U.S. government is prepared to license the export of these items having taken into account political, military, economic, human rights, and arms control considerations.

More detailed information is contained in the formal certification which, though unclassified, contains business information submitted to the Department of State by the applicant, publication of which could cause competitive harm to the U.S. firm concerned.

Sincerely,

David Bonine,

Senior Bureau Official, Bureau of Legislative Affairs.

Enclosure: Transmittal No. DDTC 21-077.

May 2, 2022

The Honorable Nancy Pelosi, Speaker of the House of Representatives.

Dear Madam Speaker:

Pursuant to Section 36(c) and (d) of the Arms Export Control Act, please find enclosed a certification of a proposed license amendment for the manufacture of significant military equipment abroad and the export of defense articles, including technical data and defense services, in the amount of $50,000,000 or more.

The transaction contained in the attached certification involves the export of defense articles, including technical data and defense services, to Taiwan to support the manufacture of F100 Engine Combustion Chamber Liners.

The U.S. government is prepared to license the export of these items having taken into account political, military, economic, human rights, and arms control considerations.

More detailed information is contained in the formal certification which, though unclassified, contains business information submitted to the Department of State by the applicant, publication of which could cause competitive harm to the U.S. firm concerned.

Sincerely,

David Bonine,

Senior Bureau Official, Bureau of Legislative Affairs.

May 3, 2022

The Honorable Nancy Pelosi, Speaker of the House of Representatives.

Dear Madam Speaker:

Pursuant to Section 36(c) of the Arms Export Control Act, please find enclosed a certification of a proposed license amendment for the export of defense articles, including technical data and defense services, in the amount of $100,000,000 or more.

The transaction contained in the attached certification involves the export of defense articles, including technical data and defense services, to the United Kingdom to promote the design, development, and testing of LiON batteries for use in the F-35 Joint Strike Fighter aircraft.

The U.S. government is prepared to license the export of these items having taken into account political, military, economic, human rights, and arms control considerations.

More detailed information is contained in the formal certification which, though unclassified, contains business information submitted to the Department of State by the applicant, publication of which could cause competitive harm to the U.S. firm concerned.

Sincerely,

David Bonine,

Senior Bureau Official, Bureau of Legislative Affairs.

Enclosure: Transmittal No. DDTC 22-010.

May 4, 2022

The Honorable Nancy Pelosi, Speaker of the House of Representatives.

Dear Madam Speaker:

Pursuant to Section 36(c) of the Arms Export Control Act, please find enclosed a certification of a proposed license for the export of firearms, parts, and components abroad controlled under Category I of the U.S. Munitions List in the amount of $1,000,000 or more.

The transaction contained in the attached certification involves the export to the UAE of GAU-5A 5.56mm fully automatic rifles and associated spare parts.

The U.S. government is prepared to license the export of these items having considered political, military, economic, human rights, and arms control considerations.

More detailed information is contained in the formal certification which, though unclassified, contains business information submitted to the Department of State by the applicant, publication of which could cause competitive harm to the U.S. firm concerned.

Sincerely,

David Bonine,

Senior Bureau Official, Bureau of Legislative Affairs.

Enclosure: Transmittal No. DDTC 21-085.

May 11, 2022

The Honorable Nancy Pelosi, Speaker of the House of Representatives.

Dear Madam Speaker:

Pursuant to Sections 36(c) and 36(d) of the Arms Export Control Act, please find enclosed a certification of a proposed license for the export of defense articles, including technical data and defense services, in the amount of $50,000,000 or more.

The transaction contained in the attached certification involves the transfers of unclassified technical data, hardware, and defense services, to the Kingdom of Saudi Arabia for the purpose of manufacture, integration, troubleshooting, and maintenance of RF-7850M-HH Multiband and RF-7850M-V5XX Multiband Vehicular radio.

The U.S. government is prepared to license the export of these items having taken into account political, military, economic, human rights, and arms control considerations.

More detailed information is contained in the formal certification which, though unclassified, contains business information submitted to the Department of State by the applicant, publication of which could cause competitive harm to the U.S. firm concerned.

Sincerely,

David Bonine,

Senior Bureau Official, Bureau of Legislative Affairs.

Enclosure: Transmittal No. DDTC 21-068.

May 26, 2022

The Honorable Nancy Pelosi, Speaker of the House of Representatives.

Dear Madam Speaker:

Pursuant to Section 36(c) of the Arms Export Control Act, please find enclosed a certification of a proposed license for the export of defense articles, including technical data and defense services, in the amount of $50,000,000 or more.

The transaction contained in the attached certification involves the export of defense articles, including technical data and defense services, to the British Virgin Islands, UAE, and UK for small arms and tactics training of private security contractors.

The U.S. government is prepared to license the export of these items having taken into account political, military, economic, human rights, and arms control considerations.

More detailed information is contained in the formal certification which, though unclassified, contains business information submitted to the Department of State by the applicant, publication of which could cause competitive harm to the U.S. firm concerned.

Sincerely,

David Bonine,

Senior Bureau Official, Bureau of Legislative Affairs.

Enclosure: Transmittal No. DDTC 20-077.

May 26, 2022

The Honorable Nancy Pelosi, Speaker of the House of Representatives.

Dear Madam Speaker:

Pursuant to Section 36(c) of the Arms Export Control Act, please find enclosed a certification of a proposed license for the export of defense articles, including technical data and defense services, in the amount of $50,000,000 or more.

The transaction contained in the attached certification involves the export of defense articles, including technical data and defense services, to Canada and Singapore to support the manufacture of castings for aerospace components.

The U.S. government is prepared to license the export of these items having taken into account political, military, economic, human rights, and arms control considerations.

More detailed information is contained in the formal certification which, though unclassified, contains business information submitted to the Department of State by the applicant, publication of which could cause competitive harm to the U.S. firm concerned.

Sincerely,

David Bonine,

Senior Bureau Official, Bureau of Legislative Affairs.

Enclosure: Transmittal No. DDTC 22-004.

June 30, 2022

The Honorable Nancy Pelosi, Speaker of the House of Representatives.

Dear Madam Speaker:

Pursuant to Section 36(c) of the Arms Export Control Act, please find enclosed a certification of a proposed license for the export of defense articles, including technical data and defense services, in the amount of $50,000,000 or more.

The transaction contained in the attached certification involves the export of defense articles, including technical data and defense services, to the UAE for the general use, installation, operation and testing of the FMU-139D/B electronic bomb fuze system.

The U.S. government is prepared to license the export of these items having taken into account political, military, economic, human rights, and arms control considerations.

More detailed information is contained in the formal certification which, though unclassified, contains business information submitted to the Department of State by the applicant, publication of which could cause competitive harm to the U.S. firm concerned.

Sincerely,

Naz Durakoglu,

Assistant Secretary, Bureau of Legislative Affairs.

Enclosure: Transmittal No. DDTC 21-055.

Kevin E. Bryant,
Acting Director, Office of Directives Management, Department of State.

[FR Doc. 2022-17233 Filed 8-10-22; 8:45 am]

BILLING CODE 4710-25-P